DEPARTMENT OF TRANSPORTATION

Federal Transit Administration

Notice of Intent To Prepare an Environmental Impact Statement (EIS) for Proposed Transit Improvements in the Corridor Between the Anaheim Regional Transportation Intermodal Center (ARTIC) and The Anaheim Resort™ in the City of Anaheim, Orange County, CA

AGENCY: Federal Transit Administration (FTA), Department of Transportation (DOT).

Subject: Notice of Intent (NOI) to Prepare Environmental Impact Statement (EIS).

Project Title: Anaheim Fixed-Guideway Transit Corridor Study.

SUMMARY: The Federal Transit Administration (FTA), in cooperation with the Orange County Transportation Authority (OCTA) and the City of Anaheim, is planning to prepare a Draft Environmental Impact Statement/Environmental Impact Report (DEIS/EIR) to provide transit service over a 3.5-mile corridor between the future ARTIC on the east and The Anaheim Resort on the west. The EIS will be prepared in accordance with regulations implementing the National Environmental Policy Act (NEPA) as well as provisions of the Safe, Accountable, Flexible, and Efficient Transportation Equity Act: A Legacy for Users (SAFETEA-LU, 2005). The purpose of this Notice of Intent is to alert interested parties regarding the plan to prepare the DEIS, to provide information on the proposed transit project, to invite participation in the EIS process, including comments on the scope of the DEIS proposed in this notice, and to announce that public scoping meetings will be conducted.

DATES: Written comments on the scope of the DEIS including the project's purpose and need, the alternatives to be considered, the impacts to be evaluated, and the methodologies to be used in the evaluations should be sent to Ms. Jamie Lai, Transit Manager, by December 1, 2009. A Scoping meeting will be held on Thursday, November 12, 2009 from 4 p.m. to 7 p.m. at the location indicated under ADDRESSES below. Agency representatives with an interest in the proposed project are encouraged to attend a 4:30 p.m. presentation at the location listed below. Representatives of Native American Tribes and all Federal, State, regional and local agencies that may have an interest in any aspect of the project will be invited to be participating or cooperating agencies, as appropriate.

ADDRESSES: Written comments on the scope of the DEIS should be sent to Ms. Jamie Lai, Transit Manager, at City of Anaheim, Public Works Department, 200 S. Anaheim Blvd., Suite 276, Anaheim, CA 92805. Comments may be submitted in writing or may be made orally at the public scoping meetings. The address for the public scoping meeting is as follows: Anaheim Downtown Community Center—Assembly Hall A, 250 E. Center Street, Anaheim, CA 92805.

The Scoping Meeting will be held on Thursday, November 12, 2009 from 4 p.m. to 7 p.m. The project's purpose and need and the description of alternatives under consideration for the proposed project will be presented at this meeting. The meeting location will be accessible to persons with disabilities. If special translation or signing services or other special accommodations are needed, please contact Ms. Jennifer Labrado (949) 252-1755 or jlabrado@consensusp.com at least 48 hours before the scoping meeting. Paper copies of scoping materials may be obtained from Ms. Labrado. Also, scoping materials will be available at the meeting and on the City of Anaheim Website (http://www.anaheim.net).

FOR FURTHER INFORMATION CONTACT: Mr. Hymie Luden, City and Regional Planner, of the Federal Transit Administration's San Francisco Regional Office at (415) 744-2732 or write to FTA Region IX Office, 201 Mission Street, Suite 1650, San Francisco, CA 94105-1926.

SUPPLEMENTARY INFORMATION: Scoping: The FTA, OCTA, and the City of Anaheim invite all interested individuals and organizations, public agencies, and Native American Tribes to provide comments on the scope of the DEIS, including the project's purpose and need, the alternatives under consideration, the impacts to be evaluated, and the evaluation methods to be used. Comments should focus on: alternatives that may be less costly or have fewer environmental or community impacts while achieving similar transportation objectives and the identification of any significant social, economic or environmental issues related to alternatives.

The Proposed Project: The Anaheim Fixed-Guideway Transit Corridor Study proposes to provide a new east-west transit connection between the ARTIC regional transportation hub in the Platinum Triangle area of the City of Anaheim and the general area of The Anaheim Resort. The project is envisioned to operate as a high-capacity system, providing convenient and efficient transfers to Metrolink, Amtrak, local fixed-route bus, and future bus rapid transit and high-speed train services connecting at ARTIC. This connection will link Orange County's “backbone” Metrolink commuter rail system to Anaheim's major employment and activity centers in the Platinum Triangle and The Anaheim Resort.

Funding for the Anaheim Fixed-Guideway Transit Corridor study was awarded to the City of Anaheim through OCTA's Go Local Program, which provides competition-based transit grants to Orange County cities for projects intended to improve transit access to Metrolink (commuter train) service. OCTA is providing program management oversight of the Anaheim Fixed Guideway Transit Corridor study.

Purpose and Need for the Proposed Project: The primary purpose of the Anaheim Fixed-Guideway Transit Corridor Study is to provide a safe, convenient, frequent, and easy-to-navigate transportation connection, in the heavily-traveled east-west corridor between the ARTIC and The Anaheim Resort, for residents, employees, and visitors to local and regional destinations. The project is needed to accommodate existing and projected future demand for local and regional travel in a unique visitor/recreational market in the heart of central Orange County's entertainment district. Connecting Anaheim activity centers with a new and highly visible transit option to the proposed ARTIC addresses deficiencies in Anaheim's transportation system. Such a project would also be expandable to serve local and region-wide travel needs. In November 2006, voters in Orange County approved the renewal of Measure M (a half-cent local sales tax) to fund future transportation investments. The Renewed Measure M Transportation Investment Plan is a 30-year, multi-billion dollar program, with 25 percent of the net revenue to be dedicated solely to countywide transit programs. The OCTA created the Go Local Program that provides funding through transit grants, so that Orange County cities can improve transit access to Metrolink (commuter train) service. This connection will address transportation issues and deficiencies related to highway congestion, transit, population and employment, parking demand and air quality in the corridor. A Fixed-Guideway project in this corridor is part of the City of Anaheim's 2007 Transit Master Plan. In addition, the proposed project is part of the Southern California Association of Governments' adopted 2008 Regional Transportation Plan (Strategic Plan List of Projects).

Alternatives: Project alternatives currently under consideration include a No-Build Alternative, a Transportation System Management Alternative, a Bus Rapid Transit Alternative, and an Elevated Fixed-Guideway Alternative, as follows:

• No-Build Alternative—the No-Build Alternative includes all programmed transportation improvements in the greater project area through the year 2035, excepting all elements of the Anaheim Fixed-Guideway Transit Corridor Study.

• Transportation System Management (TSM) Alternative—The TSM Alternative focuses on low-cost improvements to the project area transportation system that would address the project's purpose and need without requiring a major capital investment. The TSM Alternative includes strategies such as changeable message signs along freeways and improved traffic signal timing; transit service improvements (for example, bus route restructuring, expanded use of low-floor, multi-door buses, timed transfers, signal prioritization for buses, and simplified fare collection); a new bus route to serve the study corridor; and additional marketing to encourage carpool/vanpool usage.

• Semi-Exclusive At-Grade Bus Rapid Transit (BRT) Alternative—this alternative consists of a new BRT route approximating the proposed Fixed-Guideway alignment and including five new bus stations. The new BRT service would operate at grade on local city streets in exclusive lanes where sufficient right-of-way exists and in mixed-flow traffic where existing right-of-way does not allow for a dedicated lane.

• Elevated Fixed-Guideway-Central Alignment Alternative—the Elevated Fixed-Guideway Alternative would begin at the planned ARTIC transportation hub and travel westward along Gene Autry Way, northward along Haster Street and Anaheim Boulevard, westward along Disney Way, and southward along Harbor Boulevard to terminate at Harbor Boulevard and Convention Way. A tail track for operational purposes will be included south of Convention Way along Harbor Boulevard and would terminate north of Orangewood Avenue. The Fixed-Guideway facility would be completely elevated. Four station locations and one transit center/station, as well as four alternative maintenance facility sites, will be evaluated for this alternative. The technology to be used would be some form of automated guideway technology. A specific technology would be selected only if the Elevated Fixed-Guideway Alternative is approved after completion of the environmental evaluation. The Elevated Fixed-Guideway Alternative has two alignment variations to the north of Disney Way in the segment between Anaheim Boulevard and Harbor Boulevard. Four pedestrian connectors linking stations to activity centers are also proposed as part of the project: from the station at Gene Autry Way and State College Boulevard eastward to the Angel Stadium of Anaheim, from the station on Disney Way or north of Disney Way southward to The Shops at Anaheim GardenWalk, from this same station westward to the Disney theme park entrance on Harbor Boulevard, and from the station at Harbor Boulevard and Convention Way westward along Convention Way to the Anaheim Convention Center entrance.

Station/stop locations for both build alternatives are proposed to serve major activity centers in the study area, including the ARTIC transportation hub, Angel Stadium of Anaheim, the Platinum Triangle, the residential area west of the Interstate 5 Freeway, and attractions in The Anaheim Resort district including The Shops at Anaheim GardenWalk, Disney theme parks, and the Anaheim Convention Center.

The EIS Process and the Role of Participating Agencies and the Public: The purpose of the EIS process is to explore in a public setting the potentially significant effects of implementing the proposed action and alternatives on the physical, human, and natural environment. Areas of investigation include, but are not limited to, land use, environmental justice, cultural resources (including historical, archaeological, and paleontological resources), visual and aesthetic qualities, air quality, noise and vibration, energy use, traffic, safety and security, wetlands, threatened and endangered species, and hazardous materials. Regulations implementing NEPA, as well as provisions of SAFETEA-LU, call for public involvement in the EIS process. Section 6002 of SAFETEA-LU requires that FTA, OCTA, and the City of Anaheim do the following: (1) Extend an invitation to other Federal and non-Federal agencies and Native American Tribes that may have an interest in the proposed project to become “participating agencies”, (2) Provide an opportunity for involvement by participating agencies and the public in helping to define the purpose and need for a proposed project, as well as the range of alternatives for consideration in the impact statement, and (3) Establish a plan for coordinating public and agency participation in and comment on the environmental review process. An invitation to become a participating agency, with the scoping information packet appended, will be extended to other Federal and non-Federal agencies and Native American Tribes that may have an interest in the proposed project. It is possible that we may not be able to identify all Federal and non-Federal agencies and Native American Tribes that may have such an interest. Any Federal or non-Federal agency or Native American Tribe interested in the proposed project that does not receive an invitation to become a participating agency should notify the City of Anaheim Transit Manager identified above under ADDRESSES, at the earliest opportunity, but no later than 30 days following this notice.

A comprehensive public involvement program has been developed. A technical advisory committee called the Project Development Team, consisting of representatives of state, regional and local agencies, is in place. The program also includes a two-part public scoping process consisting of a combined California Environmental Quality Act (CEQA)/early NEPA scoping process with a meeting held July 29, 2009 and a NEPA scoping process, noticed herein; a public review/comment period and public hearing on the Draft Environmental Impact Statement; development and distribution of project newsletters; and posting of information on the project website. We invite the public and participating agencies to consider the preliminary statement of purpose and need for the proposed project, as well as the alternatives proposed for consideration. Comments on potential significant environmental impacts that may be associated with the proposed project are also welcomed. All comments and suggestions will be given serious consideration. In accordance with 23 CFR 771.105(a) and 771.133, FTA will comply with all Federal environmental laws, regulations and executive orders applicable to the proposed project during the environmental review process to the maximum extent practicable. These requirements include, but are not limited to, the regulations of the Council on Environmental Quality implementing NEPA (40 CFR parts 1500-1508 and 23 CFR part 771), the project-level air quality conformity regulation of the U.S. Environmental Protection Agency (EPA) (40 CFR Part 93), Section 404(b)(1) guidelines of EPA (40 CFR Part 230), Executive Orders 11988, 11990 and 12898 regarding floodplains, wetlands, and environmental justice, respectively, Section 106 of the National Historic Preservation Act (36 CFR Part 800), Section 7 of the Endangered Species Act (50 CFR Part 402), and Section 4(f) of the Department of Transportation Act (23 CFR 771.135).

Edward Carranza, Jr.,
Regional Administrator, FTA, Region 9.

[FR Doc. E9-25820 Filed 10-26-09; 8:45 am]

BILLING CODE 4910-57-P